NUCLEAR REGULATORY COMMISSION

[NRC-2014-0124]

Consolidated Guidance About Materials Licenses: Program-Specific Guidance About Service Provider Licenses

AGENCY: Nuclear Regulatory Commission.

ACTION: NUREG; issuance.

SUMMARY: The U.S. Nuclear Regulatory Commission (NRC) has issued Revision 1 to NUREG-1556, Volume 18, “Consolidated Guidance about Materials Licenses: Program-Specific Guidance about Service Provider Licenses,” which updates licensing guidance for service provider licenses. This document has been revised to include information on updated regulatory requirements, safety culture, security of radioactive materials, protection of sensitive information, and changes in regulatory policies and practices. The document is intended for use by applicants, licensees, and the NRC staff.

DATES: NUREG 1556, Volume 18, Revision 1 was published in August 2017.

ADDRESSES: Please refer to Docket ID NRC-2014-0124 when contacting the NRC about the availability of information regarding this document. You may obtain publicly-available information related to this document using any of the following methods:

• Federal Rulemaking Web site: Go to http://www.regulations.gov and search for Docket ID NRC-2014-0124. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The NUREG-1556, Volume 18, Revision 1 is available in ADAMS under Accession No. ML17242A055.

• NRC's PDR: You may examine and purchase copies of public documents at the NRC's PDR, Room O1-F21, One White Flint North, 11555 Rockville Pike, Rockville, Maryland 20852.

This NUREG-1556 volume is also available on the NRC's public Web site at http://www.nrc.gov/reading-rm/doc-collections/nuregs/staff/sr1556/ under “Consolidated Guidance About Materials Licenses (NUREG-1556).”

FOR FURTHER INFORMATION CONTACT: Anthony McMurtray, Office of Nuclear Material Safety and Safeguards; U.S. Nuclear Regulatory Commission, Washington, DC 20555-0001; telephone: 301-415-2746; email: Anthony.McMurtray@nrc.gov.

SUPPLEMENTARY INFORMATION:

I. Discussion

The NRC issued a revision to NUREG-1556, Volume 18, Revision 1, to provide guidance to existing materials service provider licensees and to applicants preparing an application for a materials service provider license. This NUREG volume also provides the NRC staff with criteria for evaluating these license applications. The purpose of this notice is to notify the public that the NUREG-1556 volume listed in this Federal Register notice was issued as a Final Report.

II. Additional Information

The NRC published a notice of the availability of the draft report for comment version of NUREG-1556, Volume 18, Revision 1 in the Federal Register on July 8, 2014 (79 FR 38600) for a 30-day public comment period. The public comment period closed on August 7, 2014. Public comments on the draft NUREG-1556, Volume 18, Revision 1 and the NRC staff's responses to the public comments are available in ADAMS under Accession No. ML16036A128.

III. Congressional Review Act

This NUREG volume is a rule as defined in the Congressional Review Act (5 U.S.C. 801-808). However, the Office of Management and Budget has not found this NUREG revision to be a major rule as defined in the Congressional Review Act.

For the U.S. Nuclear Regulatory Commission.
Kevin Williams,
Deputy Director, Division of Material Safety, State, Tribal and Rulemaking Programs, Office of Nuclear Material Safety and Safeguards.

[FR Doc. 2017-21205 Filed 10-2-17; 8:45 am]

BILLING CODE 7590-01-P